DEPARTMENT OF ENERGY

Federal Energy Regulatory Commission

[Docket No. EC98-40-000, et al.]

American Electric Power Company, Inc., et al.; Electric Rate and Corporate Regulation Filings

July 8, 2002.

The following filings have been made with the Commission. The filings are listed in ascending order within each docket classification.

1. American Electric Power Company, Inc. and Central and South West Corp.

[Docket Nos. EC98-40-000, ER98-2770-000, ER98-2786-000]

Take notice that on June 28, 2002, American Electric Power Service Corporation (AEPSC), on behalf of American Electric Power Company, Inc., submitted a compliance filing with respect to a divestiture commitment in these dockets.

Comment Date: July 19, 2002.

2. Nevada Power Company

[Docket No. ER02-84-002]

Take notice that on May 1, 2002, Nevada Power Company tendered for filing its compliance filing making the changes to the executed Interconnection and Operation Agreement between Nevada Power Company and Duke Energy Moapa, LLC required by the Federal Energy Regulatory Commission's April 1, 2002 Order in this docket.

Comment Date: July 19, 2002.

3. Southern Company Services, Inc.

[Docket Nos. ER02-352-003]

Take notice that on July 1, 2002, Southern Company Services, Inc. (SCS), on behalf of Georgia Power Company, made a compliance filing in accordance with the Federal Energy Regulatory Commission's order in Southern Company Services, Inc., 99 FERC ¶ 61,249.

Comment Date: July 22, 2002.

4. Midwest Independent Transmission System Operator, Inc.

[Docket No. ER02-1420-004]

Take notice that on July 1, 2002, the Midwest Independent Transmission System Operator, Inc. (Midwest ISO) filed with the Federal Energy Regulatory Commission (Commission) a compliance filing in the above reference docket pursuant to the Commission's May 31, 2002 Order in Midwest Independent Transmission System, Docket No. ER02-1420-000, 99 FERC ¶ 61,250.

The Midwest ISO requested that the Commission accept the compliance filing and subsequent changes to the Revised Midwest ISO Agreement and Resulting Company Open Access Transmission Tariff as effective March 29, 2002. Copies of this filing were electronically served upon Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment Date: July 22, 2002.

5. Southern Company Services, Inc.

[Docket No. ER02-2205-000]

Take notice that on July 1, 2002, Southern Company Services, Inc., as agent for Southern Power Company (Southern Power), tendered for filing the Requirements Service Agreement between Southern Power and Coweta-Fayette Electric Membership Corporation (Coweta-Fayette EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Coweta-Fayette EMC commencing on June 1, 2002.

Comment Date: July 22, 2002.

6. Southern Company Services, Inc.

[Docket No. ER02-2206-000]

Take notice that on July 1, 2002, Southern Company Services, Inc., as agent for Southern Power Company (Southern Power), tendered for filing the Requirements Service Agreement between Southern Power and Flint Electric Membership Corporation (Flint EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Flint EMC commencing on June 1, 2002.

Comment Date: July 22, 2002.

7. Southern Company Services, Inc.

[Docket No. ER02-2207-000]

Take notice that on July 1, 2002, Southern Company Services, Inc., as agent for Southern Power Company (Southern Power), tendered for filing the Requirements Service Agreement between Southern Power and Sawnee Electric Membership Corporation (Sawnee EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Sawnee EMC commencing on June 1, 2002.

Comment Date: July 22, 2002.

8. Southern Company Services, Inc.

[Docket No. ER02-2208-000]

Take notice that on July 1, 2002, Southern Company Services, Inc., as agent for Southern Power Company (Southern Power), tendered for filing the Requirements Service Agreement between Southern Power and Okefenoke Rural Electric Membership Corporation (Okefenoke REMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Okefenoke REMC commencing on June 1, 2002.

Comment Date: July 22, 2002.

9. Southern Company Services, Inc.

[Docket No. ER02-2209-000]

Take notice that on July 1, 2002, Southern Company Services, Inc., as agent for Southern Power Company (Southern Power), tendered for filing the Requirements Service Agreement between Southern Power and Flint Electric Membership Corporation (Flint EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Flint EMC commencing on June 1, 2002.

Comment Date: July 22, 2002.

10. Southern Company Services, Inc.

[Docket No. ER02-2210-000]

Take notice that on July 1, 2002, Southern Company Services, Inc., as agent for Southern Power Company (Southern Power), tendered for filing the Requirements Service Agreement between Southern Power and Carroll Electric Membership Corporation (Carroll EMC) dated as of February 28, 2002 (the Service Agreement), pursuant to the Federal Energy Regulatory Commission's authorization for Southern Power to sell power at market rates under the Market-Based Rate Tariff, FERC Electric Tariff, First Revised Volume No. 4 (Supersedes Original Volume No. 4). The Service Agreement provides the general terms and conditions for capacity and associated energy sales from Southern Power to Carroll EMC commencing on June 1, 2002.

Comment Date: July 22, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-17733 Filed 7-12-02; 8:45 am]

BILLING CODE 6717-01-P